ENVIRONMENTAL PROTECTION AGENCY

[FRL-8237-7]

Northern Tug Hill Glacial Aquifer in Jefferson, Lewis, and Oswego, Counties, NY; Sole Source Aquifer; Final Determination

AGENCY: Environmental Protection Agency.

ACTION: Notice.

SUMMARY: Notice is hereby given that pursuant to Section 1424(e) of the Safe Drinking Water Act, the Administrator of the U.S. Environmental Protection Agency (EPA) has determined that the Northern Tug Hill Glacial Aquifer, underlying portions of Jefferson, Lewis, and Oswego Counties, New York, is the sole or principal source of drinking water for the Hamlet of Adams Center, Hamlet of Pierrepont Manor, Village of Adams, Village of Lacona, Village of Mannsville, and Village of Sandy Creek and that this aquifer, if contaminated would create a significant hazard to public health. As a result of this action, all Federal financially assisted projects constructed in the Northern Tug Hill Glacial Aquifer Area and its stream flow source zone (upstream portions of the drainage basin) will be subject to EPA review to ensure that these projects are designed and constructed so they do not create a significant hazard to public health.

DATES: This determination shall be effective at 1 p.m. eastern time on November 16, 2006.

ADDRESSES: The data upon which this finding are based are available to the public and may be inspected during normal business hours at the U.S. Environmental Protection Agency, Region II, Freshwater Protection Section, Community and Ecosystem Protection Branch, Floor 24, 290 Broadway, New York, New York 10007.

FOR FURTHER INFORMATION CONTACT: Lawrence E. Rinaldo, Geologist, Freshwater Protection Section, Environmental Protection Agency, Region II, 290 Broadway, Floor 24, New York, New York, 10007, (212) 637-3820.

SUPPLEMENTARY INFORMATION:

I. Background

Section 1424(e) of the Safe Drinking Water Act (42 U.S.C. 300h-3(e), Public Law 93-523 of December 16, 1974 states:

(e) If the Administrator determines, on his own initiative or upon petition, that an area has an aquifer which is the sole or principal drinking water source for the area and which, if contaminated, would create a significant hazard to public health, he shall publish a notice of the determination in the Federal Register. After publication of any such notice, no commitment for Federal financial assistance (through a grant, contract, loan guarantee, or otherwise) may be entered into for any project which the Administrator determines may contaminate such aquifer through a recharge zone so as to create a significant hazard to public health, but a commitment for Federal financial assistance may, if authorized under another provision of law, be entered into to plan or design the project to assure that it will not so contaminate the aquifer.

On September 16, 2003, EPA received a petition from Peggy Manchester, Mayor, Village of Lacona, New York which petitioned EPA to designate the Northern Tug Hill Glacial Aquifer as a sole source aquifer. On July 9, 2006, EPA published a notice in the Watertown Daily News, which served to announce a public comment period and opportunity for a public hearing. The public was permitted to submit comments and information on the petition until August 9, 2006. There was not any request for a public hearing. Public comments received by EPA were considered to be in support of the designation.

II. Basis for Determination

Among the factors to be considered by the Regional Administrator in connection with the designation of an area under Section 1424(e) are: (1) Whether the Northern Tug Hill Glacial Aquifer is the area's sole or principal source of drinking water and (2) whether contamination of the aquifer would create a significant hazard to public health. On the basis of technical information available to EPA, the Regional Administrator has made the following findings, which are the basis for the determination in favor of designating the Northern Tug Hill Glacial Aquifer as a Sole Source Aquifer:

1. The Northern Tug Hill Glacial Aquifer currently serves as the “sole source” of drinking water for approximately 4,970 persons in the defined service area, which includes the Hamlet of Adams Center, Hamlet of Pierrepont Manor, Village of Adams, Village of Lacona, Village of Mannsville, and Village of Sandy Creek.

2. There is no existing alternative drinking water source or combination of sources which provides fifty percent or more of the drinking water to the designated area, nor is there any available cost effective future source capable of supplying the drinking water demands for the population served by the aquifer service area.

3. The Northern Tug Hill Glacial Aquifer, which consists of a crescent shaped glacial outwash and stratified drift deposits of sand and gravel along the west and southwest flanks of the Tug Hill Plateau. As a result of its highly permeable soil characteristics, the aquifer is susceptible to contamination through its recharge zone as the top of the aquifer is at land surface. The primary land use activity in the Northern Tug Hill Glacial Aquifer area is agriculture, with agricultural land being fertilized, either with commercial fertilizer or manure, and in some areas excess nitrogen from the fertilizer is carried to the aquifer. Other sources of nitrogen contamination are septic systems and barnyard runoff. Since ground water contamination can be difficult or sometimes impossible to reverse and since the communities noted above rely on the Northern Tug Hill Glacial Aquifer for drinking water purposes, contamination of the aquifer would pose a significant public health hazard.

III. Description of the Northern Tug Hill Glacial Aquifer, Sole Source Aquifer of the Jefferson, Lewis and Oswego Counties Area, Their Recharge Zone and Their Streamflow Source Zone

The Northern Tug Hill Glacial Aquifer is delineated by the crescent shaped glacial outwash and stratified drift deposits of sand and gravel along the west and southwest flanks of the Tug Hill Plateau, which covers approximately 21 miles from the Town of Adams in Jefferson County south into the Town in Richland in Oswego County, New York. The area in which Federal financially assisted projects will be subject to review is the portion of the Northern Tug Hill Glacial Aquifer in Jefferson, Lewis and Oswego Counties area, the recharge zone and the streamflow source zone.

For purposes of this designation, the Northern Tug Hill Glacial Aquifer is considered to include portions of eight towns in Jefferson County (Adams, Champion, Ellisburg, Lorraine, Rodman, Rutland, Watertown, and Worth), portions of towns in Lewis County (Denmark, Montague, and Pinckney), and portions of four towns in Oswego County (Boylston, Redfield, Richland, and Sandy Creek). The recharge zone is considered to be very permeable portions of the aquifer within Jefferson, and Oswego Counties. The streamflow source zone is that portion of the drainage basin composing the upstream headwaters area or watershed area for the losing streams that cross the Northern Tug Hill Glacial Aquifer for Jefferson, Lewis and Oswego Counties area.

IV. Information Utilized in Determination

The information utilized in this determination included the petition, various U.S. Geological Survey reports, information contained in the U.S. Environmental Protection Agency files, and written and verbal comments from public. These materials are available to the public and may be inspected during normal business house at the U.S. Environmental Protection Agency, Region II, Freshwater Protection Section, 290 Broadway, New York, New York 10007.

V. Project Review

Publication of this determination requires that EPA review proposed projects with Federal financial assistance in order to ensure that such projects do not have the potential to contaminate the Northern Tug Hill Glacial Aquifer through its aquifer and streamflow source areas as to create a significant hazard to public health. In many cases, those projects may also be analyzed in an Environmental Impact Statement (EIS) under the National Environmental Policy Act (NEPA), 42 U.S.C. 4332(2)(c). All EISs, as well as any other proposed Federal actions affecting the U.S. Environmental Protection Agency program, are required by Federal law (under the “NEPA/309” process) to be reviewed and commented upon by the EPA Administrator.

In order to streamline the U.S. Environmental Protection Agency reviews of the possible environmental impacts on designated sole source aquifers, when an action is to be analyzed in an EIS, the two reviews will be consolidated and both authorities cited. The EPA review under Section 1424(e) will be therefore included in the EPA review of the EIS (under NEPA).

VI. Summary

Today's action affects the Northern Tug Hill Glacial Aquifer system located in Jefferson, Lewis and Oswego Counties, New York. Projects with Federal financial assistance proposed for portions within the Northern Tug Hill Glacial Aquifer will be reviewed to ensure that their activities will not endanger public health through contamination of the aquifer. A public notice was published in the Watertown Daily News on Sunday, July 9, 2006, one comment was received which is considered in support of the designation of the Northern Tug Hill Glacial Aquifer.

Dated: October 25, 2006.
Alan J. Steinberg,
Regional Administrator, Region II.

[FR Doc. E6-18487 Filed 11-1-06; 8:45 am]

BILLING CODE 6560-50-P